DEPARTMENT OF COMMERCE

Bureau of Industry and Security

15 CFR Part 744

[Docket No. 110930606-1640-01]

RIN 0694-AF40

Addition of Certain Persons to the Entity List; and Implementation of Entity List Annual Review Changes

AGENCY: Bureau of Industry and Security, Commerce.

ACTION: Final rule.

SUMMARY: This rule amends the Export Administration Regulations (EAR) by adding fourteen persons under twenty-one entries to the Entity List. The persons who are added to the Entity List have been determined by the U.S. Government to be acting contrary to the national security or foreign policy interests of the United States. These persons will be listed on the Entity List under the following four destinations: Afghanistan, China, Hong Kong, and Pakistan.

In addition, this rule amends the EAR to implement modifications to the Entity List on the basis of the annual review of the Entity List conducted by the End-User Review Committee (ERC), which the ERC conducts to determine if any entries on the Entity List should be removed or modified. This rule implements the results of the annual review for entities located in Canada.

The Entity List provides notice to the public that certain exports, reexports, and transfers (in-country) to entities identified on the Entity List require a license from the Bureau of Industry and Security and that availability of license exceptions in such transactions is limited.

DATES: Effective Date: This rule is effective November 21, 2011.

FOR FURTHER INFORMATION CONTACT: Karen Nies-Vogel, Chair, End-User Review Committee, Office of the Assistant Secretary, Export Administration, Bureau of Industry and Security, Department of Commerce, Phone: (202) 482-5991, Fax: (202) 482- 3911, Email: ERC@bis.doc.gov.

SUPPLEMENTARY INFORMATION:

Background

The Entity List (Supplement No. 4 to Part 744) provides notice to the public that certain exports, reexports, and transfers (in-country) to entities identified on the Entity List require a license from the Bureau of Industry and Security (BIS) and that the availability of license exceptions in such transactions is limited. Entities are placed on the Entity List on the basis of certain sections of part 744 (Control Policy: End-User and End-Use Based) of the EAR.

The ERC, composed of representatives of the Departments of Commerce (Chair), State, Defense, Energy and, when appropriate, the Treasury, makes all decisions regarding additions to, removals from or other modifications to the Entity List. The ERC makes all decisions to add an entry to the Entity List by majority vote and all decisions to remove or modify an entry by unanimous vote.

ERC Entity List Decisions

This rule implements decisions of the ERC to add persons to the Entity List and modify existing entries based on the annual review of the Entity List. These changes are described under Additions to the Entity List and Annual Review of the Entity List below.

Additions to the Entity List

This rule implements the decision of the ERC to add fourteen persons under twenty-one entries to the Entity List on the basis of § 744.11 (License requirements that apply to entities acting contrary to the national security or foreign policy interests of the United States) of the EAR. The twenty-one entries added to the Entity List consist of eleven entries in Afghanistan, one in the People's Republic of China (China), one in Hong Kong, and eight in Pakistan. Seven of the twenty-one entries cover additional addresses of persons being added to the Entity List—these persons are being listed under multiple countries to account for alternate addresses. Specifically, these seven additional entries cover six persons in Afghanistan who also have addresses in Pakistan (resulting in six additional entries for the Pakistani addresses) and one person in China who also has an address in Hong Kong (resulting in one additional entry for the Hong Kong address).

The ERC reviewed § 744.11(b) (Criteria for revising the Entity List) in making the determination to add these persons to the Entity List. Under that paragraph, persons for which there is reasonable cause to believe, based on specific and articulable facts, that the persons have been involved, are involved, or pose a significant risk of being or becoming involved in, activities that are contrary to the national security or foreign policy interests of the United States and those acting on behalf of such persons may be added to the Entity List pursuant to § 744.11. Paragraphs (b)(1)-(b)(5) of § 44.11 include an illustrative list of activities that could be contrary to the national security or foreign policy interests of the United States. Thirteen of the fourteen persons are believed to have been involved in activities described under paragraphs (b)(1) and (b)(2) of § 744.11. Specifically, the thirteen persons in Afghanistan and Pakistan are being added to the Entity List on the basis of their provision of material support to persons engaged against U.S. and Coalition forces in Afghanistan.

Additionally, the U.S. Government has reasons to believe that one person in China, who will also be listed under an alternate address in Hong Kong, has been involved in activities described under paragraph (b)(5) of § 744.11. Specifically, the person in China has obtained items subject to the EAR without the required EAR authorizations. BIS believes that the activities of all fourteen of these persons are contrary to U.S. national security and foreign policy interests.

For the fourteen persons added to the Entity List under twenty-one entries, the ERC specifies a license requirement for all items subject to the EAR and establishes a license application review policy of a presumption of denial. The license requirement applies to any transaction in which items are to be exported, reexported, or transferred (in-country) to such persons or in which such persons act as purchaser, intermediate consignee, ultimate consignee, or end-user. In addition, no license exceptions are available for exports, reexports, or transfers (in-country) to those persons being added to the Entity List.

This final rule adds the following fourteen persons under twenty-one entries to the Entity List:

Afghanistan

(1) Abdul Satar Ghoura, 501, 5th Floor, Amanullah Sancharaki Market Opp Chaman E Huzuri, Kabul, Afghanistan; and Flat No. 41 Block No. 24 Macroyan 3, Kabul, Afghanistan. (See alternate addresses under Pakistan);

(2) Assadullah Majed, 42S WD 18476 22167 Kabul, Afghanistan, and A2 Ground Floor, City Computer Plaza, Shar-e-Naw, Kabul, Afghanistan;

(3) Fazal Rahim Farid, a.k.a., the following three aliases:

—Fazel Rahim Farid;

—Farid; and

—Engineer Idris.

Microrayan 3rd Apt. 45, block #21, Kabul, Afghanistan, and A2 Ground Floor, City Computer Plaza, Shar-e-Naw, Kabul, Afghanistan. (See alternate addresses under Pakistan);

(4) Hanif Computer Zone (HCZ), Ghazni City, Afghanistan;

(5) Habib ur Rahman, a.k.a., the following two aliases:

—Hanif; and

—Habib Rahman.

Ghazni City, Afghanistan;

(6) Iqra Computer Products, a.k.a., the following two aliases:

—Iqra IT solutions; and

—Iqra Computer Store.

A2 Ground Floor, City Computer Plaza, Shar-e-Naw, Kabul, Afghanistan;

(7) Kurshid Ghoura, a.k.a., the following two aliases:

—Kurshed Ghoura; and

—Kursheed Ghoura.

501, 5th Floor, Amanullah Sancharaki Market Opp Chaman E Huzuri, Kabul, Afghanistan; and Flat No. 41 Block No. 24 Macroyan 3, Kabul, Afghanistan. (See alternate addresses under Pakistan);

(8) Lapcom Computer Stores, A2 Ground Floor, City Computer Plaza, Shar-e-Naw, Kabul, Afghanistan. (See alternate address under Pakistan);

(9) Muhammad Halim Ghoura, 501, 5th Floor, Amanullah Sancharaki Market Opp Chaman E Huzuri, Kabul, Afghanistan; and Flat No. 41 Block No. 24 Macroyan 3, Kabul, Afghanistan. (See alternate addresses under Pakistan);

(10) Ologh Beg International Forwarders Ltd., 501, 5th Floor, Amanullah Sancharaki Market Opp Chaman E Huzuri, Kabul, Afghanistan. (See alternate address under Pakistan); and

(11) Qazi Abdallah, a.k.a., the following four aliases:

—Khan Dilawar;

—Ibrahim Valid Javaid;

—Jawid, Sa'id Jan `Abd-al-Salam; and

—Ibrahim Walid

Microrayan 3rd Apt. 45, Block No. 21, Kabul, Afghanistan.

China

(1) Xian Semi Electronic Co., Ltd., a.k.a., the following three aliases:

—Semi Electronics Co.;

—Semi Electronics International Co. Limited; and

—Exodus Microelectronics Co., Ltd.

Room 24F, Duhui 100 Building Block B, ZhongHang Road, Futian District, Shenzhen City GuangDong Province, China; Room 1810 Lang Chen Building, No. 13 Gaoxin Road, High Technology Development Zone, Xian, China; Room 24F-27E Duhui B, Zhonghang Road, Futian District, Shenzhen City, China; and Room 1802 Xigema Building No. 25, Gaoxin Road, High-Tech Development Zone, Xian, China. (See alternate address under Hong Kong).

Hong Kong

(1) Xian Semi Electronic Co., Ltd., a.k.a., the following three aliases:

—Semi Electronics Co.;

—Semi Electronics International Co. Limited; and

—Exodus Microelectronics Co., Ltd.

CAMDY, F1, 6/F BR3 Lanzhou Ind., No. 20-30 Jiangyuan, Yantian, Hong Kong; and Room 611 6/F Ricky CTR 36 Chong Yip St., Kwun Tong Kowloon, Hong Kong. (See alternate address under China).

Pakistan

(1) Abdul Satar Ghoura, 127-128, Times Center, Saddar Road, Peshawar, Pakistan; and House Number 32, F-2, Khusal Khan Khattak Road, University Town, Peshawar, Pakistan. (See alternate addresses under Afghanistan);

(2) Farzad Fazil Karim, a.k.a., the following one alias:

—Ahmad Farzad.

E3 Gul Market Street 8, Hayatabad, Pakistan; and 122, First floor, Gul Haji Plaza, Peshawar, Pakistan;

(3) Fazal Rahim Farid, a.k.a., the following three aliases:

—Fazel Rahim Farid;

—Farid; and

—Engineer Idris.

122, First Floor, Gul Haji Plaza, Peshawar, Pakistan; and House Number 32, F-2, Khusal Khan Khattak Road, University Town, Peshawar, Pakistan. (See alternate addresses under Afghanistan);

(4) Kurshid Ghoura, a.k.a., the following two aliases:

—Kurshed Ghoura; and

—Kursheed Ghoura.

127-128, Times Center, Saddar Road, Peshawar, Pakistan; and House Number 32, F-2, Khusal Khan Khattak Road, University Town, Peshawar, Pakistan. (See alternate addresses under Afghanistan);

(5) Lapcom Computer Stores, 122, First Floor, Gul Haji Plaza, Peshawar, Pakistan. (See alternate address under Afghanistan);

(6) Muhammad Halim Ghoura, 127-128, Times Center, Saddar Road, Peshawar, Pakistan; and House Number 32, F-2, Khusal Khan Khattak Road, University Town, Peshawar, Pakistan. (See alternate addresses under Afghanistan);

(7) Ologh Beg International Forwarders Ltd., 127-128, Times Center, Saddar Road, Peshawar, Pakistan; and House Number 32, F-2, Khusal Khan Khattak Road, University Town, Peshawar, Pakistan. (See alternate address under Afghanistan); and

(8) Raaziq International (Pvt.) Ltd., House Number 32, F-2, Khusal Khan Khattak Road, University Town, Peshawar, Pakistan.

Annual Review of the Entity List

This rule amends the EAR to implement changes to the Entity List (Supplement No. 4 to part 744) on the basis of the annual review of the Entity List conducted by the ERC, in accordance with the procedures outlined in Supplement No. 5 to part 744 (Procedures for End-User Review Committee Entity List Decisions). The changes from the annual review of the Entity List that are approved by the ERC are implemented in stages as the ERC completes its review of entities listed under different destinations on the Entity List. This rule implements the results of the annual review for entities located in Canada.

On the basis of decisions made by the ERC during the annual review, this rule amends two entries currently on the Entity List under Canada by adding alternate addresses, as follows:

Canada

(1) Ali Bakhshien, 909-4005 Bayview Ave., Toronto, Canada M2M 3Z9; and HSBC Tower, Suite 502, 3601 Highway 7 East, Markham, Ontario, L3R 0M3, Canada; and

(2) Kitro Corporation, 909-4005 Bayview Ave., Toronto, Canada M2M 3Z9; and HSBC Tower, Suite 502, 3601 Highway 7 East, Markham, Ontario, L3R 0M3, Canada.

Savings Clause

Shipments of items removed from eligibility for a License Exception or export or reexport without a license (NLR) as a result of this regulatory action that were on dock for loading, on lighter, laden aboard an exporting or reexporting carrier, or en route aboard a carrier to a port of export or reexport, on November 21, 2011, pursuant to actual orders for export or reexport to a foreign destination, may proceed to that destination under the previous eligibility for a License Exception or export or reexport without a license (NLR) so long as they are exported or reexported before December 6, 2011. Any such items not actually exported or reexported before midnight, on December 6, 2011, require a license in accordance with the EAR.

Although the Export Administration Act expired on August 20, 2001, the President, through Executive Order 13222 of August 17, 2001, 3 CFR, 2001 Comp., p. 783 (2002), as extended by the Notice of August 12, 2011, 76 FR 50661 (August 16, 2011), has continued the Export Administration Regulations in effect under the International Emergency Economic Powers Act. BIS continues to carry out the provisions of the Act, as appropriate and to the extent permitted by law, pursuant to Executive Order 13222.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by the OMB under control numbers 0694-0088, “Multi-Purpose Application,” which carries a burden hour estimate of 43.8 minutes for a manual or electronic submission. Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. The provisions of the Administrative Procedure Act (5 U.S.C. 553) requiring notice of proposed rulemaking, the opportunity for public comment and a delay in effective date are inapplicable because this regulation involves a military or foreign affairs function of the United States. (See 5 U.S.C. 553(a)(1)). BIS implements this rule to protect U.S. national security or foreign policy interests by preventing items from being exported, reexported, or transferred (in country) to the persons being added to the Entity List. If this rule were delayed to allow for notice and comment and a delay in effective date, then entities being added to the Entity List by this action would continue to be able to receive items without a license and to conduct activities contrary to the national security or foreign policy interests of the United States. In addition, because these parties may receive notice of the U.S. Government's intention to place these entities on the Entity List once a final rule was published it would create an incentive for these persons to either accelerate receiving items subject to the EAR to conduct activities that are contrary to the national security or foreign policy interests of the United States and/or to take steps to set up additional aliases, change addresses and take other steps to try to limit the impact of the listing on the Entity List once a final rule was published. Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable.

List of Subjects in 15 CFR Part 744

Exports, Reporting and recordkeeping requirements, Terrorism.

Accordingly, part 744 of the Export Administration Regulations (15 CFR parts 730-774) is amended as follows:

PART 744—[AMENDED]

1. The authority citation for 15 CFR part 744 continues to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 12, 2011, 76 FR 50661 (August 16, 2011); Notice of November 4, 2010, 75 FR 68673 (November 8, 2010): Notice of January 13, 2011, 76 FR 3009, January 18, 2011.

2. Supplement No. 4 to part 744 is amended:

(a) By adding, in alphabetical order, the destination of Afghanistan under the Country column and eleven Afghan entities;

(b) By revising under Canada, in alphabetical order, two Canadian entities;

(c) By adding under China, in alphabetical order, one Chinese entity;

(d) By adding under Hong Kong, in alphabetical order, one Hong Kong entity; and

(e) By adding under Pakistan, in alphabetical order, eight Pakistani entities.

The additions and revisions read as follows:

Supplement No. 4 to Part 744—Entity List
Country | Entity | License requirement | License review policy | Federal Register citation
AFGHANISTAN | Abdul Satar Ghoura, 501, 5th Floor, Amanullah Sancharaki Market Opp Chaman E Huzuri, Kabul, Afghanistan; and Flat No. 41 Block No. 24 Macroyan 3, Kabul, Afghanistan. (See alternate addresses under Pakistan). | For all items subject to the EAR. (See § 744.11 of the EAR). | Presumption of denial | 76 FR [INSERT FR PAGE NUMBER] 11/21/11.
| Assadullah Majed, 42S WD 18476 22167 Kabul, Afghanistan; and A2 Ground Floor, City Computer Plaza, Shar-e-Naw, Kabul, Afghanistan | For all items subject to the EAR. (See § 744.11 of the EAR). | Presumption of denial | 76 FR [INSERT FR PAGE NUMBER] 11/21/11
| Fazal Rahim Farid, a.k.a., the following three aliases: —Fazel Rahim Farid; —Farid; and —Engineer Idris. | For all items subject to the EAR. (See § 744.11 of the EAR). | Presumption of denial | 76 FR [INSERT FR PAGE NUMBER] 11/21/11.
| Microrayan 3rd Apt. 45, block #21, Kabul, Afghanistan; and A2 Ground Floor, City Computer Plaza, Shar-e-Naw, Kabul, Afghanistan. (See alternate addresses under Pakistan).
| Hanif Computer Zone (HCZ), Ghazni City, Afghanistan. | For all items subject to the EAR. (See § 744.11 of the EAR). | Presumption of denial | 76 FR [INSERT FR PAGE NUMBER] 11/21/11.
| Habib ur Rahman, a.k.a., the following two aliases: —Hanif; and —Habib Rahman. | For all items subject to the EAR. (See § 744.11 of the EAR). | Presumption of denial | 76 FR [INSERT FR PAGE NUMBER] 11/21/11.
| Ghazni City, Afghanistan.
| Iqra Computer Products, a.k.a., the following two aliases: —Iqra IT solutions; and —Iqra Computer Store. | For all items subject to the EAR. (See § 744.11 of the EAR). | Presumption of denial | 76 FR [INSERT FR PAGE NUMBER] 11/21/11
| A2 Ground Floor, City Computer Plaza, Shar-e-Naw, Kabul, Afghanistan.
| Kurshid Ghoura, a.k.a., the following two aliases: —Kurshed Ghoura; and —Kursheed Ghoura. | For all items subject to the EAR. (See § 744.11 of the EAR). | Presumption of denial | 76 FR [INSERT FR PAGE NUMBER] 11/21/11.
| 501, 5th Floor, Amanullah Sancharaki Market Opp Chaman E Huzuri, Kabul, Afghanistan; and Flat No. 41 Block No. 24 Macroyan 3, Kabul, Afghanistan. (See alternate addresses under Pakistan).
| Lapcom Computer Stores, A2 Ground Floor, City Computer Plaza, Shar-e-Naw, Kabul, Afghanistan. (See alternate address under Pakistan). | For all items subject to the EAR. (See § 744.11 of the EAR). | Presumption of denial | 76 FR [INSERT FR PAGE] 11/21/11.
| Muhammad Halim Ghoura, 501, 5th Floor, Amanullah Sancharaki Market Opp Chaman E Huzuri, Kabul, Afghanistan; and Flat No. 41 Block No. 24 Macroyan 3, Kabul, Afghanistan. (See alternate addresses under Pakistan). | For all items subject to the EAR. (See § 744.11 of the EAR). | Presumption of denial | 76 FR [INSERT FR PAGE] 11/21/11.
| Ologh Beg International Forwarders Ltd., 501, 5th Floor, Amanullah Sancharaki Market Opp Chaman E Huzuri, Kabul, Afghanistan. (See alternate address under Pakistan). | For all items subject to the EAR. (See § 744.11 of the EAR). | Presumption of denial | 76 FR [INSERT FR PAGE] 11/21/11.
| Qazi Abdallah, a.k.a., the following four aliases: —Khan Dilawar; —Ibrahim Valid Javaid; —Jawid, Sa'id Jan `Abd-al-Salam; and —Ibrahim Walid | For all items subject to the EAR. (See § 744.11 of the EAR). | Presumption of denial | 76 FR [INSERT FR PAGE] 11/21/11.
| Microrayan 3rd Apt. 45, Block No. 21, Kabul, Afghanistan.
* * * * * * *
CANADA | Ali Bakhshien, 909-4005 Bayview Ave., Toronto, Canada M2M 3Z9; and HSBC Tower, Suite 502, 3601 Highway 7 East, Markham, Ontario, L3R 0M3, Canada. | For all items subject to the EAR. (See § 744.11 of the EAR). | Presumption of denial | 73 FR 54504, 9/22/08. 76 FR [INSERT FR PAGE] 11/21/11.
| Kitro Corporation, 909-4005 Bayview Ave., Toronto, Canada M2M 3Z9; and HSBC Tower, Suite 502, 3601 Highway 7 East, Markham, Ontario, L3R 0M3, Canada. | For all items subject to the EAR. (See § 744.11 of the EAR). | Presumption of denial | 73 FR 54504, 9/22/08. 76 FR [INSERT FR PAGE] 11/21/11.
CHINA, PEOPLE'S REPUBLIC OF
* * * * * * *
| Xian Semi Electronic Co., Ltd., a.k.a., the following three aliases: —Semi Electronics Co.; —Semi Electronics International Co. Limited; and —Exodus Microelectronics Co., Ltd. | For all items subject to the EAR. (See § 744.11 of the EAR). | Presumption of denial | 76 FR [INSERT FR PAGE NUMBER] 11/21/11.
| Room 24F, Duhui 100 Building Block B, ZhongHang Road, Futian District, Shenzhen City GuangDong Province, China; Room 1810 Lang Chen Building, No. 13 Gaoxin Road, High Technology Development Zone, Xian, China; Room 24F-27E Duhui B, Zhonghang Road, Futian District, Shenzhen City, China; and Room 1802 Xigema Building No. 25, Gaoxin Road, High-Tech Development Zone, Xian, China. (See alternate address under Hong Kong).
* * * * * * *
HONG KONG
* * * * * * *
| Xian Semi Electronic Co., Ltd., a.k.a., the following three aliases: —Semi Electronics Co.; —Semi Electronics International Co. Limited; and —Exodus Microelectronics Co., Ltd. | For all items subject to the EAR. (See § 744.11 of the EAR). | Presumption of denial | 76 FR [INSERT FR PAGE NUMBER] 11/21/11.
| CAMDY, F1, 6/F BR3 Lanzhou Ind., No. 20-30 Jiangyuan, Yantian, Hong Kong; and Room 611 6/F Ricky CTR 36 Chong Yip St., Kwun Tong Kowloon, Hong Kong (See alternate address under China).
* * * * * * *
PAKISTAN
| Abdul Satar Ghoura, 127-128, Times Center, Saddar Road, Peshawar, Pakistan; and House Number 32, F-2, Khusal Khan Khattak Road, University Town, Peshawar, Pakistan. (See alternate addresses under Afghanistan). | For all items subject to the EAR. (See § 744.11 of the EAR). | Presumption of denial | 76 FR [INSERT FR PAGE NUMBER] 11/21/11.
* * * * * * *
| Farzad Fazil Karim, a.k.a., the following one alias: —Ahmad Farzad. E3 Gul market Street 8, Hayatabad, Pakistan; and 122, First floor, Gul Haji Plaza, Peshawar, Pakistan; | For all items subject to the EAR. (See § 744.11 of the EAR). | Presumption of denial | 76 FR [INSERT FR PAGE NUMBER] 11/21/11.
| Fazal Rahim Farid, a.k.a., the following three aliases: —Fazel Rahim Farid; —Farid; and —Engineer Idris. | For all items subject to the EAR. (See § 744.11 of the EAR). | Presumption of denial | 76 FR [INSERT FR PAGE NUMBER] 11/21/11.
| 122, First Floor, Gul Haji Plaza, Peshawar, Pakistan; and House Number 32, F-2, Khusal Khan Khattak Road, University Town, Peshawar, Pakistan. (See alternate addresses under Afghanistan).
* * * * * * *
| Kurshid Ghoura, a.k.a., the following two aliases: —Kurshed Ghoura; and —Kursheed Ghoura. | For all items subject to the EAR. (See § 744.11 of the EAR). | Presumption of denial | 76 FR [INSERT FR PAGE NUMBER] 11/21/11.
| 127-128, Times Center, Saddar Road, Peshawar, Pakistan; and House Number 32, F-2, Khusal Khan Khattak Road, University Town, Peshawar, Pakistan. (See alternate addresses under Afghanistan).
| Lapcom Computer Stores, 122, First Floor, Gul Haji Plaza, Peshawar, Pakistan. (See alternate address under Afghanistan). | For all items subject to the EAR. (See § 744.11 of the EAR). | Presumption of denial | 76 FR [INSERT FR PAGE NUMBER] 11/21/11.
* * * * * * *
| Muhammad Halim Ghoura, 127-128, Times Center, Saddar Road, Peshawar, Pakistan, and House Number 32, F-2, Khusal Khan Khattak Road, University Town, Peshawar, Pakistan. (See alternate addresses under Afghanistan). | For all items subject to the EAR. (See § 744.11 of the EAR). | Presumption of denial | 76 FR [INSERT FR PAGE NUMBER] 11/21/11.
| Ologh Beg International Forwarders Ltd., 127-128, Times Center, Saddar Road, Peshawar, Pakistan; and House Number 32, F-2, Khusal Khan Khattak Road, University Town, Peshawar, Pakistan. (See alternate address under Afghanistan). | For all items subject to the EAR. (See § 744.11 of the EAR). | Presumption of denial | 76 FR [INSERT FR PAGE NUMBER] 11/21/11.
* * * * * * *
| Raaziq International (Pvt.) Ltd., House Number 32, F-2, Khusal Khan Khattak Road, University Town, Peshawar, Pakistan. | For all items subject to the EAR. (See § 744.11 of the EAR). | Presumption of denial | 76 FR [INSERT FR PAGE NUMBER] 11/21/11.
* * * * * * *

Dated: November 15, 2011.
Kevin J. Wolf,
Assistant Secretary for Export Administration.

[FR Doc. 2011-29982 Filed 11-18-11; 8:45 am]

BILLING CODE 3510-33-P